DEPARTMENT OF THE INTERIOR

National Park Service

[NPS-WASO-NAGPRA-NPS0034165; PPWOCRADN0-PCU00RP14.R50000]

Notice of Inventory Completion: Michigan State Police, Lansing, MI

AGENCY: National Park Service, Interior.

ACTION: Notice.

SUMMARY: The Michigan State Police (MSP) have completed an inventory of human remains, in consultation with the appropriate Indian Tribes or Native Hawaiian organizations and has determined that there is no cultural affiliation between the human and any present-day Indian Tribes or Native Hawaiian organizations. Representatives of any Indian Tribe or Native Hawaiian organization not identified in this notice that wish to request transfer of control of these human remains should submit a written request to the Michigan State Police. If no additional requestors come forward, transfer of control of the human remains to the Indian Tribes or Native Hawaiian organizations stated in this notice may proceed.

DATES: Representatives of any Indian Tribe or Native Hawaiian organization not identified in this notice that wish to request transfer of control of these human remains should submit a written request with information in support of the request to the Michigan State Police at the address in this notice by August 11, 2022.

FOR FURTHER INFORMATION CONTACT: Hanna Friedlander, Human Remains Analyst, Michigan State Police, Intelligence Operations Division—Missing Persons Coordinator Unit, 7150 Harris Drive, Lansing, MI 48821, telephone (517) 242-5731, email friedlanderh@michigan.gov.

SUPPLEMENTARY INFORMATION: Notice is here given in accordance with the Native American Graves Protection and Repatriation Act (NAGPRA), 25 U.S.C. 3003, of the completion of an inventory of human remains under the control of the Michigan State Police, Lansing, MI. The human remains were removed from the City of Caro in Tuscola County, MI.

This notice is published as part of the National Park Service's administrative responsibilities under NAGPRA, 25 U.S.C. 3003(d)(3) and 43 CFR 10.11(d). The determinations in this notice are the sole responsibility of the museum, institution, or Federal agency that has control of the Native American human remains. The National Park Service is not responsible for the determinations in this notice.

Consultation

A detailed assessment of the human remains was made by the Michigan State Police (MSP) professional staff in consultation with representatives of the Saginaw Chippewa Indian Tribe of Michigan.

History and Description of the Remains

On April 9, 2021, human remains representing, at minimum, one individual were removed from the City of Caro, Tuscola County, MI. As the human remains were extremely fragmentary, osteobiographical information for this individual was indeterminate. The human remains (known as MPC-7-21) were sent for radiocarbon dating to DirectAMS, who provided a date ranging between A.D. 993 and 1031. On November 1, 2021, the human remains were returned to the MSP. No known individual was identified. No associated funerary objects are present.

Determinations Made by the Michigan State Police

Officials of the Michigan State Police have determined that:

• Pursuant to 25 U.S.C. 3001(9), the human remains described in this notice are Native American based on radiocarbon dating.

• Pursuant to 25 U.S.C. 3001(9), the human remains described in this notice represent the physical remains of one individual of Native American ancestry.

• Pursuant to 25 U.S.C. 3001(2), a relationship of shared group identity cannot be reasonably traced between the Native American human remains and any present-day Indian Tribe.

• According to final judgments of the Indian Claims Commission or the Court of Federal Claims, the land from which the Native American human remains were removed is the aboriginal land of the Bay Mills Indian Community, Michigan; Grand Traverse Band of Ottawa and Chippewa Indians, Michigan; Hannahville Indian Community, Michigan; Keweenaw Bay Indian Community, Michigan; Lac Veux Desert Band of Lake Superior Chippewa Indians of Michigan; Little River Band of Ottawa Indians, Michigan; Little Traverse Bay Bands of Odawa Indians, Michigan; Match-e-be-nash-she-wish Band of Pottawatomi Indians of Michigan; Nottawaseppi Huron Band of the Potawatomi, Michigan (previously listed as Huron Potawatomi, Inc.); Pokagon Band of Potawatomi Indians, Michigan and Indiana; Saginaw Chippewa Indian Tribe of Michigan; and the Sault Ste. Marie Tribe of Chippewa Indians, Michigan (hereafter referred to as “The Tribes”).

• Treaties, Acts of Congress, or Executive Orders, indicate that the land from which the Native American human remains were removed is the aboriginal land of The Tribes.

• Pursuant to 43 CFR 10.11(c)(1), the disposition of the human remains may be to The Tribes.

Additional Requestors and Disposition

Representatives of any Indian Tribe or Native Hawaiian organization not identified in this notice that wish to request transfer of control of these human remains should submit a written request with information in support of the request to Hanna Friedlander, Human Remains Analyst, Michigan State Police, Intelligence Operations Division—Missing Persons Coordinator Unit, 7150 Harris Drive, Lansing, MI 48821, telephone (517) 242-5731, email friedlanderh@michigan.gov, by August 11, 2022. After that date, if no additional requestors have come forward, transfer of control of the human remains to The Tribes may proceed. If joined to a request from one or more of The Tribes, the following non-federally recognized Indian groups also may receive transfer of control of the human remains: the Burt Lake Band of Ottawa and Chippewa Indians and the Grand River Band of Ottawa Indians.

The Michigan State Police are responsible for notifying The Tribes; Burt Lake Band of Ottawa and Chippewa Indians; and the Grand River Band of Ottawa Indians that this notice has been published.

Dated: June 29, 2022.
Melanie O'Brien,
Manager, National NAGPRA Program.

[FR Doc. 2022-14781 Filed 7-11-22; 8:45 am]

BILLING CODE 4312-52-P